POSTAL REGULATORY COMMISSION

Sunshine Act Meetings

TIME AND DATE: Wednesday, December 7, 2011, at 11 a.m.

PLACE: Commission Hearing Room, 901 New York Avenue NW., Suite 200, Washington, DC 20268-0001.

STATUS: Part of this meeting will be open to the public. The rest of the meeting will be closed to the public. The open session will be audiocast. The audiocast may be accessed via the Commission's Web site at http://www.prc.gov.

MATTERS TO BE CONSIDERED: The agenda for the Commission's December 2011 meeting includes the items identified below.

Portions Open to the Public

1. Election of the Vice Chairman.

2. Report on legislative activities.

3. Report on public participation.

4. Report on international activities.

5. Report on the status of the strategic rulemaking process.

6. Report on pending dockets.

7. Report on the activities of the Office of the Secretary.

Portion Closed to the Public

8. Discussion of pending litigation.

CONTACT PERSON FOR MORE INFORMATION: Stephen L. Sharfman, General Counsel, Postal Regulatory Commission, 901 New York Avenue NW., Suite 200, Washington, DC 20268-0001, at (202) 789-6820 (for agenda-related inquiries) and Shoshana M. Grove, Secretary of the Commission, at (202) 789-6800 or shoshana.grove@prc.gov (for inquiries related to meeting location, access for handicapped or disabled persons, the audiocast, or similar matters).

Dated: November 21, 2011.
By the Commission.
Ruth Ann Abrams,
Acting Secretary.

[FR Doc. 2011-30512 Filed 11-22-11; 4:15 pm]

BILLING CODE 7710-FW-P